DEPARTMENT OF HEALTH AND HUMAN SERVICES

Centers for Disease Control and Prevention

[60 Day-01-25]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques for other forms of information technology. Send comments to Anne O'Connor, CDC Assistant Reports Clearance Officer, 1600 Clifton Road, MS-D24, Atlanta, GA 30333. Written comments should be received within 60 days of this notice.

Proposed Project

Evaluating HIV Prevention Programs in Community-Based Organizations (CBOs)—New—The National Center for HIV, STD, and TB Prevention (NCHSTP), Centers for Disease Control and Prevention (CDC) proposes to evaluate HIV prevention programs in community-based organizations (CBOs) through a quarterly and annual reporting system. This evaluation is necessary to understand the impact of CDC's expenditures and efforts to support CBOs, and for modifying and improving the prevention efforts of CBOs. This data collection will provide CDC with standardized data which will allow CDC to (a) determine the extent to which HIV prevention efforts have contributed to a reduction in HIV transmission nationally; (b) improve programs to better meet the goal of reducing HIV transmission; (c) help focus technical assistance and support; and (d) be accountable to stakeholders by informing them of progress made in HIV prevention nationwide. CDC currently funds 181 CBOs.

Each CBO will be asked to report on the following types of interventions that it has implemented (a) individual level interventions; (b) group level interventions; (c) street and community outreach; (d) prevention case management; (e) partner counseling and referral services; (f) health communications/public information; (g) community level interventions; and (h) HIV antibody counseling and testing.

The total annual cost to respondents is estimated at $30,770 based on an average salary of $35,000 for program managers.

Respondents | Number of respondents | Number of responses | Avg. burden per response (in hrs.) | Total burden (in hrs.)
Intervention Plan | 181 | 1 | 2 | 362
Process Monitoring | 181 | 4 | 2 | 1,448
Total |  |  |  | 1,810

Dated: February 28, 2001.
Nancy Cheal,
Acting Associate Director for Policy, Planning and Evaluation Centers for Disease Control and Prevention.

[FR Doc. 01-5494 Filed 3-6-01; 8:45 am]

BILLING CODE 4163-18-P